FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011528-022.

Title: Japan-U.S. Eastbound Freight Conference.

Parties:

American President Lines, Ltd.

Hapag-Lloyd Container Line GMBH

Kawasaki Kisen Kaisha, Ltd.

Mitsui O.S.K. Lines, Ltd.

A.P. Moller-Maersk Sealand

Nippon Yusen Kaisha

Orient Overseas Container Line Limited

P&O Nedlloyd B.V.

P&O Nedlloyd Limited

Wallenius Wilhelmsen Lines AS

Synopsis: The proposed amendment extends the suspension of the agreement for another six month period through July 31, 2003.

Agreement No.: 200233-006.

Title: Packer Avenue Lease and Operating Agreement.

Parties: Philadelphia Regional Port Authority Astro Holdings, Inc.

Synopsis: The amendment extends the term of the lease until December 31, 2012, and changes the compensation and security deposit provisions.

Agreement No.: 201110-005.

Title: Port of Oakland and Hanjin Shipping Co., Ltd. Marine Terminal Agreement.

Parties: City of Oakland Board of Port Commissioners Total Terminals International, LLC.

Synopsis: The amendment to the agreement adds alternative payment provisions for the agreement's minimum annual compensation.

Agreement No.: 201140.

Title: West Basin Container Terminal Cooperative Working Agreement.

Parties:

China Shipping (North America) Holding Co., Ltd.

Yang Ming Line Holding Co.

Marine Terminals Corporation.

Synopsis: The agreement sets forth the general terms and conditions upon which the parties will jointly establish and operate a marine terminal facility at the Port of Los Angeles.

Agreement No.: 201141.

Title: Marine Terminal Agreement between SK Shipping and the City and County of San Francisco.

Parties:

City and County of San Francisco SK Shipping Co. Ltd.

Synopsis: The agreement covers the non-exclusive use of the port's marine terminal at Pier 80.

By Order of the Federal Maritime Commission.
Dated: December 20, 2002.
Bryant L. VanBrakle,
Secretary.

[FR Doc. 02-32581 Filed 12-24-02; 8:45 am]

BILLING CODE 6730-01-P